FEDERAL COMMUNICATIONS COMMISSION

47 CFR Part 73

[MB Docket No. 19-118; RM-11838; DA 19-553]

Television Broadcasting Services Buffalo, New York

AGENCY: Federal Communications Commission.

ACTION: Final rule.

SUMMARY: At the request of Nexstar Broadcasting, Inc. (Nexstar), licensee of television station WNLO(TV) channel 32, Buffalo, New York (WNLO), and WUTV Licensee, LLC (WUTV Licensee), the licensee of television station WUTV(TV), channel 36, Buffalo, New York, the Commission has before it a notice of proposed rulemaking proposing the substitution of channels for DTV station WNLO (currently channel 32) and WUTV (currently channel 36). WUTV would continue to operate from its existing pre-auction location and WNLO would move the Nexstar shared facilities in the site previously vacated by WIVB-TV (Buffalo, New York (CBS) (WIVB), the station with which it is sharing. The channel substitution serves the public interest because it would allow for a more efficient allocation of UHF television channels and resolve significant over-the-air reception problems in WIVB's prior service area.

DATES: Effective June 27, 2019.

FOR FURTHER INFORMATION CONTACT: Varsha Mangel, Media Bureau, at (202) 418-0073, or Varsha.Mangel@fcc.gov.

SUPPLEMENTARY INFORMATION: The notice of proposed rulemaking published on May 7, 2019 (84 FR 19897). This is a synopsis of the Commission's Report and Order, MB Docket No. 19-118; RM-11838; DA 19-553, adopted June 12, 2019, and released June 12, 2019. The full text of this document is available for public inspection and copying during normal business hours in the FCC's Reference Information Center at Portals II, CY-A257, 445 12th Street SW, Washington, DC 20554, or online at http://apps.fcc.gov/ecfs/. To request materials in accessible formats (Braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Barbara Kreisman,
Chief, Video Division, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. Section 73.622(i), the Post-Transition Table of DTV Allotments, is amended under New York by revising the entry for “Buffalo” to read as follows:

§ 73.622 Digital television table of allotments.

* * * * *

(i) * * *

Community | Channel No.
* * * * *
New York
* * * * *
Buffalo | 14, 32, 33, 36, 38, 39, *43, 49
* * * * *

[FR Doc. 2019-13129 Filed 6-26-19; 8:45 am]

BILLING CODE 6712-01-P